DEPARTMENT OF COMMERCE

National Oceanic and Atmospheric Administration

Reopening of Solicitation of Nominations for the Marine Debris Foundation Board of Directors

AGENCY: National Ocean Service (NOS), National Oceanic and Atmospheric Administration (NOAA), Department of Commerce (DOC).

ACTION: Reopening of solicitation of nominations.

SUMMARY: The National Oceanic and Atmospheric Administration published a notice in the Federal Register on May 19, 2021 seeking nominations of qualified candidates to be considered for appointment as a member of the Marine Debris Foundation Board of Directors (Board). This solicitation of nominations of qualified persons to the Board is hereby reopened.

DATES: Nominations to the Board of Directors for the Marine Debris Foundation must be received in entirety no later than 11:59 p.m. EDT on August 27, 2021. Nomination packages received after this time will not be considered.

ADDRESSES: All nominations should be emailed (recommended) to marinedebris.foundation@noaa.gov with the subject line “Marine Debris Foundation Nomination,” or mailed to Caitlin Wessel, Marine Debris Foundation Nomination, c/o NOAA Disaster Response Center, 7344 Ziegler Blvd., Mobile, AL 36608.

FOR FURTHER INFORMATION CONTACT: Caitlin Wessel, Ph.D., Phone 251-222-0276; Email caitlin.wessel@noaa.gov or visit the NOAA Marine Debris Program website at https://marinedebris.noaa.gov/who-we-are/marine-debris-foundation.

SUPPLEMENTARY INFORMATION: Refer to the Federal Register Notice of May 19, 2021 (86 FR 27070) and the NOAA Marine Debris Program website at https://marinedebris.noaa.gov/who-we-are/marine-debris-foundation for the items that are required parts of the nomination package and additional information.

(Authority: Pub. L. 116-224, 112, Dec. 18, 2020, 134 Stat. 1072)

Scott Lundgren,
Director, Office of Response and Restoration, National Ocean Service.

[FR Doc. 2021-17738 Filed 8-17-21; 8:45 am]

BILLING CODE 3510-NK-P